AGENCY FOR INTERNATIONAL DEVELOPMENT

DEPARTMENT OF STATE

Notice of Partner Vetting System Pilot Program Meeting on May 31, 2017

AGENCY: U.S. Agency for International Development and U.S. Department of State.

ACTION: Notice of meeting.

SUMMARY: Notice is hereby given of a meeting on completion of the congressionally mandated Partner Vetting System (PVS) pilot program.

DATES: Wednesday, May 31, 2017, 2:00-3:00 p.m.

ADDRESSES: Ronald Reagan Building, 1300 Pennsylvania Avenue NW., Washington, DC 20523.

SUPPLEMENTARY INFORMATION:

Agenda

The purpose of the meeting is to receive input and comments on the PVS pilot program from stakeholders who have experience relevant to the pilot. Members of the public may attend in person or join via teleconference. Officials from the U.S. Department of State (State) and the U.S. Agency for International Development (USAID) will provide an overview of the status of the pilot review process, followed by an open forum. Public participation is encouraged to help inform the State/USAID joint pilot evaluation report to Congress. The agenda is subject to change.

Stakeholders

Although the meeting is free and open to the public, registration is required for attendance. Please email pvspilothelpdesk@usaid.gov to register and receive location or call-in information. Please specify whether you wish to attend in person or call in. As space is limited, members of the public interested in attending in person will be accommodated in order of registrations received.

Dated: May 12, 2017.
Colleen R. Allen,
U.S. Agency for International Development.
Lisa M. Farrell,
U.S. Department of State.

[FR Doc. 2017-10418 Filed 5-19-17; 8:45 am]

BILLING CODE P